FEDERAL TRADE COMMISSION

Granting of Request for Early Termination of the Waiting Period Under the Premerger Notification Rules

Section 7A of the Clayton Act, 15 U.S.C. 18a, as added by Title II of Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—06/24/2002
20020795 | Kaman Corporation | Dae Y. Shin | DSE Inc.
20020868 | Holding Eurocard, S.A. | MasterCard Incorporated | MasterCard Incorporated.
20020872 | CSFB Global Opportunities Partners, L.P | Oxford Automotive, Inc | Oxford Automotive, Inc.
20020876 | Daniel K. Thome | GS Industries (Debtor-In-Possesion) | Georgetown Steel Corporation.
20020880 | WorldCom, Inc | Star Telecommunications, Inc | PT-1 Communications, Inc. PT-1 Long Distance, Inc. PT-1 Technologies, Inc.
20020882 | The PMI Group, Inc | Fairbanks Capital Holding Corp | Fairbanks Capital Holding Corp.
20020883 | AT&T Broadband Corp | GSA Commerce, Inc | GSA Commerce, Inc.
20020884 | GTCR Fund VII, L.P | Alex E. Gores | VeriFone, Inc.
Transactions Granted Early Termination—06/25/2002
20020873 | MedPoint Inc | MedPoint Inc | Wallace Pharmaceuticals/ASTA Medica L.L.C.
20020879 | Cooperatieve Centrale Raiffeisen—Boerenleenbank B.A | General Mills, Inc | General Mills, Inc. GM Cereals Operations, Inc.
Transactions Granted Early Termination—06/26/2002
20020888 | Alcatel | Telera, Inc | Telera, Inc.
Transactions Granted Early Termination—06/28/2002
20020838 | DRS Technologies, Inc | Eaton Corporation | Eaton Corporation.
20020853 | Striker Corporation | Tyco International Ltd | Surgical Dynamics Canada, Inc. Surgical Dynamics Germany GmbH. Surgical Dynamics Inc.
20020858 | South African Breweries plc | Philip Morris Companies, Inc | Miller Brewing Company.
20020869 | GS Capital Partners 2000, L.P | Atlantic Equity Partners International II, L.P | BPC Holding Corporation.
20020893 | Group 1 Automotive, Inc. | Miller Trust of 1980 (restated) | Miller Automotive Group Inc.
20020898 | Electronic Data System Corporation | Loudcloud, Inc | Loudcloud, Inc.
20020902 | CompuCredit Corporation | Federated Department Stores Inc | Fingerhut Receivables, Inc.
20020905 | Novell, Inc | SilverStream Software, Inc | SilverStream Software, Inc.
Transactions Granted Early Termination—07/01/2002
20020863 | Aquila, Inc | George T. Lewis, Jr. and Betty G. Lewis | Cogentrix Energy, Inc.
20020871 | ABM Industries Incorporated | Michael Sweig | Lakeside Building Maintenance, Inc.
20020877 | Carl C. Icahn | Tyco International Ltd | Tyco International Ltd.
20020896 | Gray Communication Systems, Inc | Stations Holding Company, Inc | Stations Holding Company, Inc.
Transactions Granted Early Termination—07/02/2002
20020900 | Thomas J. Petters | Federated Department Stores, Inc | Fingerhut Companies, Inc.
20020901 | Theordore Deikel | Federated Department Stores, Inc | Fingerhut Companies, Inc.
Transactions Granted Early Termination—07/03/2002
20020906 | Cemex, S.A. de C.V | Puerto Rican Cement Company, Inc | Puerto Rican Cement Company, Inc.
Transactions Granted Early Termination—07/04/2002
20020892 | Warburg Pincus Private Equity VIII, L.P | Agere Systems, Inc | Agere Systems, Inc.
Transactions Granted Early Termination—07/05/2002
20020899 | Proxim Corporation | Agere Systems, Inc. | Agere Systems, Inc.
20020907 | EDO Corporation | Behrman Capital II, L.P | CEI Systems, Inc. Condor Systems, Inc.

FOR FURTHER INFORMATION CONTACT: Sandra M. Peay, Contact Representative. Federal Trade Commission, Premeger Notification Office, Bureau of Competition, Room 303, Washington, DC 20580. (202) 326-3100.

By Direction of the Commission.
Donald S. Clark,
Secretary.

[FR Doc. 02-18703 Filed 7-23-02; 8:45 am]

BILLING CODE 6750-01-M